DEPARTMENT OF THE TREASURY

Customs Service

Notice of Cancellation of Customs Broker Permit

AGENCY: Customs Service, Department of the Treasury.

ACTION: General notice.

SUMMARY: Pursuant to section 641 of the Tariff Act of 1930, as amended, (19 U.S.C. 1641) and the Customs Regulations (19 CFR 111.51), the following Customs broker local permits are canceled without prejudice.

Name | Permit No. | Port name
Arthur Andersen LLP | 94-037 | Los Angeles
Murphy International Corp | 153 | Seattle
James P. Cesped | 04581-P | San Francisco

Dated: August 12, 2002.
Jayson P. Ahern,
Assistant Commissioner, Office of Field Operations.

[FR Doc. 02-21114 Filed 8-19-02; 8:45 am]

BILLING CODE 4820-02-P